ENVIRONMENTAL PROTECTION AGENCY

[EPA-HQ-OPP-2011-0558; FRL-8883-7]

Cancellation of Pesticides for Non-Payment of Year 2011 Registration Maintenance Fees; Correction

AGENCY: Environmental Protection Agency (EPA).

ACTION: Notice; correction.

SUMMARY: EPA issued a notice in the Federal Register of July 27, 2011, concerning cancellation of pesticides for non-payment of year 2011 registration maintenance fees. This document is being issued to correct Table 2 of the cancellation notice by removing five entries which were inadvertently included.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this action apply to me?

The Agency included in the July 27, 2011 notice a list of those who may be potentially affected by this action. If you have questions regarding the applicability of this action to a particular entity, consult the person listed under FOR FURTHER INFORMATION CONTACT.

B. How can I get copies of this document and other related information?

EPA has established a docket for this action under docket identification (ID) number EPA-HQ-OPP-EPA-HQ-OPP-2011-0558. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Does This Correction Do?

This notice is being issued to correct Table 2 of the cancellation notice. This correction removes five entries which were inadvertently included as follows:

FR Doc. 2011-18706 published in the Federal Register of July 27, 2011 (76 FR 44907) (FRL-8879-8) is corrected as follows:

1. On page 44908, in Table 2, remove the complete entry for: “003282-00092” “003282-00093,” “003282-00094,” and “003282-00095.”

2. On page 44910, in Table 2, remove the complete entry for “069876-00001.”

List of Subjects

Environmental protection, Administrative practice and procedure, Pesticides and pest.

Dated: August 3, 2011.
Steven Bradbury,
Director, Office of Pesticide Programs.

[FR Doc. 2011-20285 Filed 8-9-11; 8:45 am]

BILLING CODE 6560-50-P